NATIONAL SCIENCE FOUNDATION

Sunshine Act Meetings

The National Science Board's Committee on Strategy hereby gives notice of the scheduling of a teleconference for the transaction of National Science Board business pursuant to the National Science Foundation Act and the Government in the Sunshine Act.

TIME AND DATE: Thursday, December 1, 2022, from 10:00 a.m.-11:00 p.m. EST.

PLACE: This meeting will be held in person at NSF headquarters at 2415 Eisenhower Ave., Alexandria, VA 22314, and by videoconference through the National Science Foundation.

STATUS: Closed.

MATTERS TO BE CONSIDERED: The agenda of the teleconference is: Committee Chair's opening remarks; Discussion of NSF's FY 2023 Budget; Discussion of NSF's FY 2024 Budget Request; and Update on the CHIPS and Science Act.

CONTACT PERSON FOR MORE INFORMATION: Point of contact for this meeting is: Kathy Jacquart, kjaquart@nsf.gov (703) 292-7000. Meeting information and updates may be found at www.nsf.gov/nsb.

Christopher Blair,
Executive Assistant to the National Science Board Office.

[FR Doc. 2022-26036 Filed 11-23-22; 4:15 pm]

BILLING CODE 7555-01-P